DEPARTMENT OF TRANSPORTATION

Surface Transportation Board

[Docket No. FD 35962]

Terminal Railroad Association of St. Louis—Trackage Rights Exemption—Norfolk Southern Railway Company

Norfolk Southern Railway Company (NSR), pursuant to a written trackage rights agreement dated July 31, 2015, has agreed to grant limited local trackage rights to the Terminal Railroad Association of St. Louis (TRRA) over approximately 0.49 miles of rail line in St. Louis, Mo. (the Line). Specifically, TRRA will acquire trackage rights between TRRA's connection with NSR at approximately North Market Street, St. Louis, Mo., and the Kiesel Facility at approximately Dock Street, St. Louis, Mo.

TRRA may consummate its acquisition on or after November 7, 2015, the effective date of the exemption (30 days after the verified notice of exemption was filed).

TRRA states that NSR, who currently operates over TRRA via trackage rights to access the Line and serve the Kiesel Facility, intends to discontinue a nearby two-mile segment of trackage. According to TRRA, granting TRRA limited local trackage rights over the Line for the sole purpose of serving the Kiesel Facility (the only active shipper accessible via the Line) will allow NSR and TRRA to operate more efficiently in this area after NSR's nearby discontinuance while also preserving rail service to an existing customer. TRRA will assume maintenance of the Line until NSR decides to resume active operations over the Line.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by October 30, 2015 (at least seven days before the exemption becomes effective).

An original and 10 copies of all pleadings, referring to Docket No. FD 35962, must be filed with the Surface Transportation Board, 395 E Street SW., Washington, DC 20423-0001. In addition, a copy of each pleading must be served on Asim S. Raza, Terminal Railroad Association of St. Louis, 415 S. 18th Street, Suite 200, St. Louis, MO 63103.

Board decisions and notices are available on our Web site at WWW.STB.DOT.GOV.

Decided: October 20, 2015.
By the Board, Rachel D. Campbell, Director, Office of Proceedings.
Kenyatta Clay,
Clearance Clerk.

[FR Doc. 2015-26987 Filed 10-22-15; 8:45 am]

BILLING CODE 4915-01-P